DEPARTMENT OF AGRICULTURE

Food and Nutrition Service

Food Distribution Program on Indian Reservations 2018 Farm Bill Demonstration Project for Tribal Organizations: Solicitation of Proposals

AGENCY: Food and Nutrition Service (FNS), USDA.

ACTION: Notice.

SUMMARY: The Department of Agriculture (USDA) Food and Nutrition Service (FNS) is soliciting proposals from eligible Tribal Organizations to participate in a demonstration project to purchase agricultural commodities for the Food Distribution Program on Indian Reservations (FDPIR). This demonstration project is authorized under the Agriculture Improvement Act of 2018. Participation in this demonstration project is available to Tribal Organizations that administer FDPIR. Tribal organizations will be selected on a competitive basis and funding will be awarded through a self-determination contract.

DATES: Proposals will be accepted until 11:59 p.m. ET on March 15, 2021. See ADDRESSES section for submission details.

ADDRESSES: Email proposals to FDPIR-RC@usda.gov with subject line “FDPIR Demonstration Project”. Proposals received and date-stamped after the time listed in the DATES section of this notice will not be considered. FNS will accept proposals at any time before the deadline and will send a notification of receipt to the return email address on the proposal package, along with a determination of whether the proposal is complete.

FOR FURTHER INFORMATION CONTACT: Barbara Lopez, Food Distribution Division, Food and Nutrition Service, U.S. Department of Agriculture, 1320 Braddock Place, Alexandria, Virginia 22314, 703-305-2465, or email FDPIR-RC@usda.gov.

SUPPLEMENTARY INFORMATION:

I. Program Background

II. 2018 Farm Bill: Demonstration Project for Tribal Organizations

III. Eligibility and Criteria

A. Eligibility of Tribal Organization

B. Agricultural Commodity Criteria

IV. Review, Selection and Evaluation

A. Review and Selection Process

B. Evaluation Criteria

V. Proposal Template

I. Program Background

The Food Distribution Program on Indian Reservations (FDPIR) is administered by the Food and Nutrition Service (FNS) of the USDA and provides a food package of 100 percent domestically grown foods to income-eligible households living on Indian reservations and to American Indian households residing in approved areas near reservations or in Oklahoma. FDPIR was authorized under the Food Stamp Act of 1977 (Pub. L. 95-113), which was later renamed the Food and Nutrition Act of 2008 (FNA). FDPIR is currently administered by 102 Tribal Organizations and three State agencies and provides benefits and nutrition education services to approximately 276 Federally recognized Tribes across the United States. In FY 2020, the program served approximately 75,500 individuals on an average monthly basis. Each month, participating FDPIR households receive a defined food package to help maintain a nutritionally balanced diet. Based on FNS guidance, participants may select from over 100 domestically grown and produced foods, including fresh fruits and vegetables, a variety of frozen and nonperishable items, and a selection of traditional foods.

FDPIR administering agencies order foods from USDA (i.e., USDA Foods), and the foods are purchased and shipped to Tribal Organizations and State agencies that administer FDPIR. These administering agencies store and distribute the foods, determine applicant eligibility, and provide nutrition education to participants. USDA provides the administering agencies with funds for program administrative costs.

II. 2018 Farm Bill: Demonstration Project for Tribal Organizations

Currently, the USDA Foods provided in the FDPIR food package are procured by USDA's Agricultural Marketing Service (AMS) in collaboration with FNS. USDA purchases and ships the USDA Foods to Tribal Organizations and State agencies that administer FDPIR. Tribal Organizations and State agencies store and distribute the foods, determine applicant eligibility, and provide nutrition education to recipients. Section 4003(b) of the Agriculture Improvement Act of 2018 (Pub. L. 115-334, the 2018 Farm Bill) establishes a demonstration project for one or more Tribal Organization(s) within FDPIR to enter into self-determination contracts for them to purchase foods for their Indian Tribe, instead of USDA, for inclusion in the FDPIR food package. Section 4003(b)(1)(E) of the 2018 Farm Bill defines self-determination contract as: The term “self-determination contract” has the meaning given the term in section 4 of the Indian Self-Determination and Education Assistance Act (25 U.S.C. 5304). Under Section 4003(b)(2), the 2018 Farm Bill further states that the “Secretary shall establish a demonstration project under which 1 or more tribal organizations may enter into self-determination contracts to purchase agricultural commodities under the food distribution program for the Indian reservation of that tribal organization.” Given the 2018 Farm Bill's specific reference to 25 U.S.C. 5304 and self-determination contracts only, Tribal Organizations selected to participate in this demonstration project would need to enter into a self-determination contract with FNS. No other type of funding agreement will be allowed.

Self-determination contracts, as defined under Section 4 of the Indian Self-Determination and Education Assistance Act (ISDEAA), Public Law 93-638 (25 U.S.C. 5304), as amended, allow a Tribal Organization to have more control over the governmental affairs of their Organizations, fostering further self-governance. The 2018 Farm Bill provision under Section 4003(b) supports Tribal Organization self-governance by specifically allowing Tribal Organizations to procure FDPIR food instead of USDA. This provision also allows FNS to familiarize itself with these types of contracts and to assess how FDPIR could operate under such a food distribution program model.

FNS received $3.0 million to support this demonstration project through the Further Consolidated Appropriations Act of 2020 (Pub. L. 116-94). Section 4003(b)(6)(B) of the 2018 Farm Bill states that only funds appropriated to the Secretary of Agriculture in advance to carry out Section 4003(b) may be used to carry out this demonstration project. Per this statutory language, the only funds currently available to carry out this demonstration project is the $3.0 million appropriated by Congress in the Further Consolidated Appropriations Act of 2020 (Pub. L. 116-94). This appropriated amount must cover all costs associated with the demonstration project, including food procurement costs and contract support costs. In addition, FNS is interested in ensuring that more than one Tribal Organization participates in this demonstration project. Given the amount of available funds, individual proposals may not exceed $1.5 million. Should additional funding be appropriated by Congress for this demonstration project, FNS reserves the right to use this solicitation to select additional proposals or extend an existing contract already awarded under this demonstration project.

The 2018 Farm Bill outlined the following criteria for Tribal Organization participation and procurement of agricultural commodities:

Selection of Tribal Organization (Section 4003(b)(3)(B) of the 2018 Farm Bill): The Secretary of USDA shall select for participation in the demonstration project Tribal Organizations that: Are successfully administering FDPIR under section 4(b)(2)(B) of the Food and Nutrition Act of 2008 (7 U.S.C. 2013(b)(2)(B)); have the capacity to purchase agricultural commodities for their FDPIR program; and meet any other criteria determined by the Secretary of USDA after consultation with the Secretary of the Interior and Indian Tribes to participate in the demonstration project.

Procurement of Agricultural Commodities (Section 4003(b)(4) of the 2018 Farm Bill): Tribal Organizations selected to participate in the demonstration project shall only purchase agricultural commodities that: Are domestically produced; will supplant, not supplement, the type of agricultural commodities in the existing FDPIR food package; are of similar or higher nutritional value as the food(s) it is replacing in the existing food package; and meet any other criteria as determined by the Secretary of USDA.

III. Eligibility and Criteria

During fiscal years (FY) 2019, 2020 and 2021, FNS engaged in six Tribal consultation meetings with Tribal leaders to receive input and feedback on the criteria for FDPIR Tribes to participate in the demonstration project. This feedback has been incorporated into the criteria outlined below to the greatest extent possible.

A. Eligibility of Tribal Organization

1. Tribal Organization must administer FDPIR at the time a proposal is due, either under a direct agreement with FNS or under an agreement with a State agency. The self-determination contract will be between FNS and the Tribal Organization.

2. Prior to contract negotiations, a Tribal Resolution from the Tribal Council authorizing the Tribal Organization to participate in this demonstration project must be submitted with the proposal. Tribal Organizations are encouraged to submit a Tribal Resolution with its proposal. However, if the Tribal Resolution is unavailable at the time the proposal is due, a Tribal Organization may alternatively submit a statement affirming that a Tribal Resolution with this authorization has been requested of the Tribal Council and provide the date the Tribal Resolution is expected to be received in their proposal. Tribal Resolutions must be received no later than 30 days after notification of being selected or the proposal will be disqualified and will not be selected for funding.

3. Tribal Organization must demonstrate success in administering FDPIR. FNS will evaluate this based on the following:

Tribal Organization must have a current Plan of Operation on file with FNS or with the State agency, if applicable, that meets the regulatory requirements of 7 CFR part 253;

Tribal Organization must be in compliance with regulatory inventory storage and inventory management requirements at 7 CFR 250.12; and

Tribal Organization must have no outstanding financial or inventory-related FNS management evaluation findings. If an FNS management evaluation has not been conducted within the last three years, a copy of the most recent Tribal audit report must be submitted.

4. Tribal Organization must have capacity to purchase one or more agricultural commodities meeting all the criteria under III.B. of this notice.

5. Tribal Organization must provide a budget proposal and narrative with all associated costs that will be carried out under the contract. The budget proposal, including all contract support costs (CSC), may not exceed $1.5 million.

6. Tribal Organization must submit a complete proposal by the published due date. A proposal template is provided as part of this notice in section V. The template is not mandatory; a proposal will be accepted for review as long as it meets all the applicable criteria in this notice.

B. Agricultural Commodity Criteria

In addition to the information and documentation required under III.A. of this notice, a Tribal Organization must also provide the following information in its proposal:

1. Identification of the current FDPIR food(s) the Tribal Organization intends to supplant (i.e., replace) in the food package. All foods currently offered by USDA for the FDPIR program, including foods offered intermittently (e.g., traditional foods, bonus foods), are eligible to be supplanted if proposed by the Tribal Organization.

2. A description of the available food(s) proposed for purchase and inclusion in the Tribal Organization's FDPIR program. In its description, Tribal Organization must provide the following:

An attestation that the proposed food(s) is a product grown, processed, and otherwise prepared for sale or distribution exclusively in the United States.

A description of the nutritional value of the proposed food(s) and an explanation of how the proposed food(s) is of similar or higher nutritional value than the food(s) being supplanted. The proposed food(s) does not need to provide the same specific nutrient profile as the food it is replacing. Alternately, Tribal Organizations may describe how the proposed food(s) is nutritionally similar to items in the FDPIR food package category it is replacing. It is not necessary to draw a direct comparison to the specific food being supplanted. For example:

• If a Tribal Organization proposes to supplant frozen blueberries in the FDPIR food package fruit category with a berry traditional to its culture, the Tribal Organization may explain how the traditional berry is nutritionally similar to other fruits currently offered in the fruit category. A comparison of the specific nutrients in frozen blueberries compared to the traditional berry is not required.

• For FDPIR food package categories, please reference Exhibit O: Food Distribution Program on Indian Reservations Monthly Distribution Guide Rates by Household Size (Distribution Rates).

A description of Tribal Organization's capacity to obtain the proposed food(s) in a quantity that meets estimated participant demand. In its description, the Tribal Organization must confirm proposed food(s) will be offered to all participants served by its program.

The estimated number of months the proposed food(s) will be distributed to Tribal Organization's existing FDPIR caseload. A minimum six-month distribution is required (consecutive or non-consecutive).

Documentation that the proposed food(s) is commercially available (i.e., presently being sold through commercial channels to the public by the vendor(s) from which the Tribal Organization is proposing to procure the food(s)).

Letter(s) of Support from vendor(s) which will supply the food(s). Letter(s) should certify that vendor(s) sells food(s) commercially and offers food(s) that is a product grown, processed, and otherwise prepared for sale or distribution entirely in the United States.

IV. Review, Selection and Evaluation

A. Review and Selection Process

Funding, under this solicitation, will be provided via self-determination contracts, as defined by Section 4 of the ISDEAA, to at least two Tribal Organizations that meet the eligibility criteria established under section III. above. As part of the selection process, FNS will pre-screen and review all proposals to ensure they contain the required documents and information. Upon receiving a proposal, FNS will determine whether the proposal is complete within 7 calendar days. If a proposal is received before the deadline but is determined to be incomplete, the applicant will be notified and given the opportunity to submit missing items within 7 calendar days of being notified. If there are less than 7 calendar days from the date of notification and the deadline or the notification occurs after the deadline has passed, the applicant will still be given 7 calendar days to submit the missing items, but this is only available to proposals that were initially received before the deadline. Any initial proposals, whether complete or incomplete, received after the deadline will not be considered.

Timely, complete proposals will be given to the FNS review panel to be evaluated and scored against the ranking criteria. Proposals will be evaluated using the four ranking criteria listed below, under section IV.B. Evaluation Criteria, with a maximum achievable total of 100 points. The FNS review panel may ask applicants for additional clarification prior to final selection.

Final award selections will be approved by the FNS Administrator. Tribal Organizations not selected for award will be notified in writing. FNS reserves the right to use this solicitation to select additional proposals or extend an existing contract already awarded under this demonstration project should additional funds be made available through future appropriations.

B. Evaluation Criteria

The following selection criteria will be used to evaluate proposals for this demonstration project. FNS reserves the right to select proposals to meet geographical representation or project diversity notwithstanding the points awarded to each proposal. To the extent possible, FNS will ensure that the selected proposals, when considered as a group, test a range of geographic location, program size, and diversity in food selection. Tribal leaders, during consultation, also requested FNS consider selecting proposals that test a range of programs as much as possible.

Program Administration: 20 points. A proposal will be evaluated under this criterion for applicant's effectiveness in successfully administering FDPIR. Evaluation will be based on the factors listed under section III.A.3 of this notice.

Project Viability: 30 points. A proposal will be evaluated on its strength in demonstrating Tribal Organization capacity to purchase agricultural commodities for the FDPIR program. The panel will evaluate the project viability by examining: (1) The applicant's ability to obtain the proposed food(s) in a quantity that meets estimated participant demand; (2) the applicant's ability to obtain the proposed food(s) for a minimum six-month distribution (consecutive or non-consecutive); and (3) the vendor letter(s) of support included with proposal.

Agricultural Commodity Description: 20 points. A proposal will be evaluated under this criterion for the agricultural commodity it proposes to introduce to the FDPIR program and the degree to which the proposed food meets project requirements, including that: (1) The proposed food(s) is a product grown, processed, and otherwise prepared for sale or distribution entirely in the United States; and (2) the proposed food(s) is of similar or higher nutritional value than the food(s) being supplanted.

Budget: 30 points. A proposal will be evaluated under this criterion for the degree to which its proposed budget is reasonable, necessary, and allocable to costs associated with this demonstration project during its proposed period of performance. The budget narrative should correspond with the proposed line item budget and must justify and support the bona fide needs of the budget's line item costs. Proposal budgets must not exceed $1.5 million, including contract support costs.

V. Proposal Template

The following proposal template is provided for the convenience of applicants. The use of this template is recommended but not mandatory. A proposal will be accepted for review as long as it meets all the applicable criteria in this notice. Email completed proposals to FDPIR-RC@usda.gov with subject line “FDPIR Demonstration Project”. Proposals will be accepted until 11:59 p.m. ET on March 15, 2021.

A. Tribal Organization Information

Please provide the following information:

1. Full name, address, and telephone number of Tribal Organization proposing to contract.

2. Full name, address, telephone number, and email of Tribal Organization's main contact for this proposal.

3. A copy of signed Federal-State Agreement (FNS-74) with FNS or of signed agreement with the FDPIR State agency.

4. A copy of current FDPIR Plan of Operation.

5. A copy of most recent FNS FDPIR management evaluation within the last three (3) years or, if the management evaluation is not available, copy of most recent Tribal audit report.

6. A Tribal Resolution from the Tribal Council authorizing the Tribal Organization to participate in this demonstration project or a statement affirming that a Tribal Resolution with this authorization has been requested of the Tribal Council and will be submitted prior to contract negotiations and within 30 days, if selected.

7. A detailed description of Tribal Organization's capacity to purchase the proposed food(s) for its FDPIR program.

B. Agricultural Commodity Procurement

Please provide the following information:

1. Identification of food(s) from the current FDPIR food package the Tribal Organization intends to supplant (i.e., replace).

2. A detailed description of food(s) proposed for purchase and inclusion in the FDPIR program by Tribal Organization. Specifically, the following information must be included:

a. An attestation that the proposed food(s) is a product grown, processed, and otherwise prepared for sale or distribution exclusively in the United States. See also #5 of this proposal template.

b. A description of the nutritional value of the proposed food(s) and explanation of how the proposed food(s) is of similar or higher nutritional value than the food(s) being supplanted. Alternately, Tribal Organizations may describe how the proposed food(s) is nutritionally similar to the items in the FDPIR food package category of the food it is replacing rather than drawing a direct nutritional comparison to the specific food being supplanted. For example:

If a Tribal Organization proposes to supplant frozen blueberries in the FDPIR food package fruit category (Exhibit O) with a berry traditional to its culture, the Tribal Organization may explain how the traditional berry is nutritionally similar to other fruits currently offered in the fruit category. A comparison of the specific nutrients in frozen blueberries compared to the traditional berry is not required.

c. A description of Tribal Organization's capacity to obtain the proposed food(s) in a quantity that meets estimated participant demand. In the description, Tribal Organization must confirm proposed food(s) will be offered to all FDPIR participants served by its program.

d. The estimated number of months the proposed food(s) will be distributed to Tribal Organization's existing FDPIR caseload. A minimum six-month distribution is required (consecutive or non-consecutive).

e. Documentation that the proposed food(s) is commercially available (i.e., presently being sold to the public through commercial channels by the vendor(s) from which the Tribal Organization is proposing to procure the food(s)). See also #5 of this proposal template.

3. A proposed budget and narrative of estimated costs. Budget proposal, including all contract support costs, may not exceed $1.5 million. The proposed budget must include the following:

a. The total amount of funds requested.

b. A budget narrative that describes all major line-item expenditures that are proposed.

c. A breakout of the amount of funds requested by the following categories:

Food purchases

Personnel

Equipment

Materials and supplies

Travel

Other allowable costs

d. An estimate and description of all contract support costs.

4. A proposed period of performance to perform contract activities.

5. Letter(s) of Support from vendor(s) which will supply the food(s). Letter(s) should certify that vendor(s):

Sells food(s) commercially; and

Offers food(s) that is a product grown, processed, and otherwise prepared for sale or distribution exclusively in the United States.

Pamilyn Miller,
Administrator, Food and Nutrition Service.

[FR Doc. 2021-00529 Filed 1-13-21; 8:45 am]

BILLING CODE 3410-30-P